FEDERAL COMMUNICATIONS COMMISSION

47 CFR Part 73

[DA 06-1758; MB Docket No. 05-122; RM-11198]

Radio Broadcasting Services; Columbus and Monona, WI

AGENCY: Federal Communications Commission.

ACTION: Final rule; petition for reconsideration.

SUMMARY: The staff reinstates and conditionally grants a petition for rulemaking to reallot and change the community of license for Station WTLX(FM) from Channel 263A at Columbus, Wisconsin, to Channel 263A at Monona, Wisconsin. To prevent the removal of the sole local service at Columbus, Station WTLX(FM) may not commence operations at Monona until Station WTTN(AM) commences operations at Columbus as a “backfill” station. With this action, the proceeding is terminated. See SUPPLEMENTARY INFORMATION.

DATES: Effective October 20, 2006.

FOR FURTHER INFORMATION CONTACT: Andrew J. Rhodes, Media Bureau, (202) 418-2180.

SUPPLEMENTARY INFORMATION: This is a synopsis of the Commission's Memorandum Opinion and Order, MB Docket No. 05-122, adopted August 31, 2006, and released September 5, 2006. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.bcpiweb.com. The Commission will send a copy of the Memorandum Opinion and Order in this proceeding in a report to be sent to Congress and the Government Accountability Office pursuant to the Congressional Review Act, see 5 U.S.C. 801(a)(1)(A).

The Report and Order in this proceeding dismissed the rulemaking petition because it was contingent upon an ungranted AM construction permit application to change the community of license for Station WTTN(AM), 1580 kHz, from Watertown, Wisconsin, to Columbus in violation of a staff policy. See 70 FR 66331 (November 2, 2005). Although the Commission may change its processing rules at any time, the petition for rulemaking was reinstated for equitable reasons because it was filed before the staff policy was announced.

The reference coordinates for Channel 263A at Monona, Wisconsin, are 43-08-19 NL and 89-22-27 WL.

List of Subjects in 47 CFR Part 73

Radio, Radio broadcasting.

As stated in the preamble, the Federal Communications Commission amends 47 CFR part 73 as follows:

PART 73—RADIO BROADCAST SERVICES

1. The authority for part 73 continues to read as follows:

Authority: 47 U.S.C. 154, 303, 334, 336.

§ 73.202 [Amended]

2. Section 73.202(b), the Table of FM Allotments under Wisconsin, is amended by removing Columbus, Channel 263A and by adding Monona, Channel 263A.

Federal Communications Commission.
John A. Karousos,
Assistant Chief, Audio Division, Media Bureau.

[FR Doc. E6-15601 Filed 9-19-06; 8:45 am]

BILLING CODE 6712-01-P